DEPARTMENT OF THE TREASURY

Bureau of Alcohol, Tobacco and Firearms

27 CFR Part 275

[Notice No. 894]

RIN 1512-AB71

Implementation of Public Law 105-33, Section 9302, Requiring the Qualification of Tobacco Products Importers.

AGENCY: Bureau of Alcohol, Tobacco and Firearms (ATF), Department of the Treasury.

ACTION: Notice of proposed rulemaking; reopening of comment period.

SUMMARY: This document reopens the comment period for Notice No. 888, a notice of proposed rulemaking cross-referenced to temporary regulations, published in the Federal Register on December 22, 1999. ATF has received a request to extend the comment period in order to provide sufficient time for all interested parties to respond to the issues raised in the notice.

DATES: Written comments must be received on or before May 3, 2000.

ADDRESSES: Send written comments to: Chief, Regulations Division, Bureau of Alcohol, Tobacco and Firearms, P.O. Box 50221, Washington, DC 20091-0221, Attention: Notice Number 888.

FOR FURTHER INFORMATION CONTACT: Clifford A. Mullen by writing to Regulations Division, Bureau of Alcohol, Tobacco and Firearms, 650 Massachusetts Avenue, NW, Washington, DC 20226, by phone at 202-927-8210, or by e-mail at alcohol/tobacco@atfhq.atf.treas.gov.

SUPPLEMENTARY INFORMATION:

Background

On December 22, 1999, ATF published a notice of proposed rulemaking (NPRM) cross-referenced to temporary regulations in the Federal Register soliciting comments from the public and industry on proposed regulations implementing the provisions of the Balanced Budget Act of 1997, Public Law 105-33. These provisions amended the Internal Revenue Code of 1986 to require that, beginning January 1, 2000, importers of tobacco products qualify for a permit to conduct that activity (Notice No. 888; 64 FR 71955).

The comment period for Notice No. 888 was scheduled to close on February 22, 2000. Prior to the close of the comment period, ATF received a request from a manufacturer of tobacco products, RJ Reynolds Tobacco Company to extend the comment period. RJ Reynolds stated that it needed additional time to coordinate the comments of several departments within the company which have an interest in the importation of tobacco products.

In consideration of the above, ATF finds that a reopening of the comment period is warranted. Thus, the comment period is being reopened for an additional 30 days until May 3, 2000. The Bureau believes that a comment period totaling 90 days is a sufficient amount of time for all interested parties to respond.

Disclosure

Copies of this notice, Notice No. 888, and the written comments will be available for public inspection during normal business hours at: ATF Public Reading Room, Room 6480, 650 Massachussetts Avenue, NW, Washington DC.

Drafting Information. The author of this document is Clifford A. Mullen, Regulations Division, Bureau of Alcohol, Tobacco and Firearms.

List of Subjects in 27 CFR Part 275

Administrative practices and procedures, Authority delegations, Cigarette papers and tubes, Cigars and cigarettes, Claims, Customs duties and inspections, Electronic funds transfers, Excise taxes, Imports, Labeling, Packaging and containers, Penalties, Reporting and record keeping requirements, Seizures and forfeitures, Surety bonds, U.S. Possessions, Warehouses.

Authority and Issuance

This notice is issued under the authority in 26 U.S.C. 7805.

Signed: March 22, 2000.
Bradley A. Buckles,
Director.

[FR Doc. 00-8113 Filed 3-31-00; 8:45 am]

BILLING CODE 4810-31-P